DEPARTMENT OF LABOR

Employment and Training Administration

[TA-W-74,897]

Penske Logistics LLC a Subsidiary of General Electric/Penske Corporation Including On-Site Leased Workers From Kelly Temporary Services and Manpower; El Paso, TX; Notice of Affirmative Determination Regarding Application for Reconsideration

By application dated February 18, 2011, the petitioners requested administrative reconsideration of the negative determination regarding workers' eligibility to apply for Trade Adjustment Assistance (TAA) applicable to workers and former workers of Penske Logistics LLC, a subsidiary of General Electric/Penske Corporation, El Paso, Texas (subject firm). The determination was issued on January 7, 2011. The Department's Notice of Determination was published in the Federal Register on January 26, 2011 (76 FR 4729). The subject firm supplies warehousing services which includes storage, processing, and shipping services for the automotive industry.

The negative determination was based on the findings that, during the period under investigation, subject firm sales and/or production did not decline during the relevant period and the subject firm did not shift to another country the supply of storage, processing and shipping services (or like or directly competitive services).

In the request for reconsideration, the petitioners alleged that “All departments have been impacted in the outsourcing of our work requirements into Mexico Delphi Plant locations” and identified specific functions that have allegedly shifted abroad “since 2009 (maybe 2008)” due to “X-dock implementation needs into Mexico” and specific locations in Mexico to where the services allegedly shifted—“Mochis Sinaloa, Meoqui Chihuahua, Juarez Chih, and * * * Chihuahua Chihuahua who is currently on hold due to plant transitioning into Durango.”

The Department has carefully reviewed the workers' request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 18th day of March, 2011.
Del Min Amy Chen,
Certifying Officer, Office of Trade Adjustment Assistance.

[FR Doc. 2011-7268 Filed 3-28-11; 8:45 am]

BILLING CODE 4510-FN-P